DEPARTMENT OF COMMERCE

National Telecommunications and Information Administration

Commerce Spectrum Management Advisory Committee

AGENCY: National Telecommunications and Information Administration, U.S. Department of Commerce.

ACTION: Call for applications to serve on Advisory Committee.

SUMMARY: The National Telecommunications and Information Administration (NTIA) is seeking applications from persons interested in serving on the Department of Commerce Spectrum Management Advisory Committee (CSMAC or committee) for two-year terms. The CSMAC provides advice to the Assistant Secretary for Communications and Information and NTIA Administrator on spectrum policy matters.

DATES: Applications must be postmarked or electronically transmitted on or before May 18, 2018.

ADDRESSES: Persons may submit applications, with the information specified below, to David J. Reed, Designated Federal Officer, by email to dreed@ntia.doc.gov or by U.S. mail or commercial delivery service to Office of Spectrum Management, National Telecommunications and Information Administration, 1401 Constitution Avenue NW, Room 4600, Washington, DC 20230.

FOR FURTHER INFORMATION CONTACT: David J. Reed at (202) 482-5955 or dreed@ntia.doc.gov.

SUPPLEMENTARY INFORMATION: The Commerce Spectrum Management Advisory Committee is chartered by the Department of Commerce under the Federal Advisory Committee Act (FACA), 5 U.S.C. App. 2, and pursuant to Section 105(b) of the National Telecommunications and Information Administration Organization Act, as amended, 47 U.S.C. 904(b). The committee will continue as provided in Executive Order 13811 effective September 30, 2017. The Department of Commerce re-chartered the CSMAC on September 30, 2017, for a two-year period. The CSMAC advises the Assistant Secretary of Commerce for Communications and Information on a broad range of issues regarding spectrum policy. In particular, the current charter provides that the committee will provide advice and recommendations on needed reforms to domestic spectrum policies and management in order to: License radio frequencies in a way that maximizes their public benefit; keep wireless networks as open to innovation as possible; and make wireless services available to all Americans. The CSMAC functions solely as an advisory body in compliance with the FACA. Additional information about the CSMAC and its activities may be found at http://www.ntia.doc.gov/category/csmac.

Under the terms of the committee's charter, it will have no fewer than five (5) members and no more than thirty (30) members. The members serve on the CSMAC in the capacity of Special Government Employee (SGE). As SGEs, members must comply with certain federal conflict of interest statutes and ethics regulations, including some financial disclosure requirements. Members will not receive compensation or reimbursement for travel or for per diem expenses. No member may be a registered federal lobbyist pursuant to the Lobbying Disclosure Act of 1995 (codified at 2 U.S.C. 1601 et seq.). See Office of Management and Budget, Revised Guidance on Appointment of Lobbyists to Federal Advisory Committees, Boards, and Commissions, 79 FR 47482 (Aug. 13, 2014). No member may be an agent of a foreign principal required to register pursuant to the Foreign Agents Registration Act of 1938, as amended (codified at 22 U.S.C. 611 et seq.).

The Secretary of Commerce appoints members of the committee who serve at the Secretary's pleasure and discretion for up to a two-year term and may be reappointed for additional terms. NTIA currently seeks applicants for new two-year terms that will commence in October 2018 and continue through September 2020, subject to the anticipated timely renewal of the committee's charter or its termination by proper authority.

The committee's membership will be fairly balanced in terms of the points of view represented by members and the functions to be performed. Accordingly, its membership will reflect a cross-section of interests in spectrum management and policy, including non-federal spectrum users; state, regional, and local sectors; technology developers and manufacturers; academia; civil society; and service providers with customers in both domestic and international markets. A description of factors that will be considered to determine each applicant's expertise is contained in the committee's Membership Balance Plan (available at http://www.ntia.doc.gov/other-publication/2017/csmac-membership-balance-plan).

In particular, NTIA seeks applicants with strong technical and engineering knowledge and experience, familiarity with commercial or private wireless technologies and associated businesses, or expertise with specific applications of wireless technologies. The Secretary may consider factors including, but not limited to, educational background, past work or academic accomplishments, and the industry sector in which a member is currently or previously employed. All appointments are made without discrimination on the basis of age, ethnicity, gender, sexual orientation, disability, cultural, religious, or socioeconomic status.

Each application must include the applicant's full name, address, telephone number, and email address, along with a summary of the applicant's qualifications that identifies, with specificity, how his or her education, training, experience, expertise, or other factors would support the CSMAC's work and how his or her participation would help achieve the balance factors described above. Each application must also include a detailed resume or curriculum vitae.

Dated: April 16, 2018.
Kathy D. Smith,
Chief Counsel, National Telecommunications and Information Administration.

[FR Doc. 2018-08225 Filed 4-18-18; 8:45 am]

BILLING CODE 3510-10-P